DEPARTMENT OF THE TREASURY

Internal Revenue Service

Open Meeting of the Taxpayer Advocacy Panel Joint Committee

AGENCY: Internal Revenue Service (IRS), Treasury.

ACTION: Notice of meeting.

SUMMARY: An open meeting of the Taxpayer Advocacy Panel Joint Committee will be conducted. The Taxpayer Advocacy Panel is soliciting public comments, ideas, and suggestions on improving customer service at the Internal Revenue Service.

DATES: The meetings will be held August 16, 2016, August 17, 2016, August 18, 2016 and August 19, 2016.

FOR FURTHER INFORMATION CONTACT: Kim Vinci at 1-888-912-1227 or 916-974-5086.

SUPPLEMENTARY INFORMATION: Notice is hereby given pursuant to Section 10(a)(2) of the Federal Advisory Committee Act, 5 U.S.C. App. (1988) that an open meeting of the Taxpayer Advocacy Panel Joint Committee will be held Tuesday, August 16, 2016, from 10:30 a.m. to 12:30 p.m. and 2:30 p.m. to 4:30 p.m. Eastern Standard Time via teleconference; Wednesday, August 17, 2016, from 10:30 a.m. to 12:30 p.m. and 2:30.m. to 4:30 p.m. Eastern Standard Time via teleconference; and Thursday, August 18, 2016, from 10:30 a.m. to 12:30 p.m. and 2:30.m. to 4:30 p.m. Eastern Standard Time via teleconference and Friday, August 19, 2016, from 10:30 a.m. to 12:30 p.m. Eastern Standard Time via teleconference. The public is invited to make oral comments or submit written statements for consideration. Notification of intent to participate must be made with Kim Vinci. For more information please contact: Kim Vinci at 1-888-912-1227 or 916-974-5086, TAP Office, 4330 Watt Ave., Sacramento, CA 95821, or contact us at the Web site: http://www.improveirs.org.

The agenda will include various committee issues for submission to the IRS and other TAP related topics. Public input is welcomed.

Dated: July 18, 2016.
Antoinette Ross,
Acting Director, Taxpayer Advocacy Panel.

[FR Doc. 2016-17764 Filed 7-26-16; 8:45 am]

BILLING CODE P